COMMITTEE FOR PURCHASE FROM PEOPLE WHO ARE BLIND OR SEVERELY DISABLED

Procurement List; Proposed Additions And Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a product previously furnished by such agency.

DATES: Comments Must Be Received on or Before: 1/21/2013.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 7420-00-NIB-0023—Talking Calculator, 508 Compliant, 12 Digit, Portable, Desktop, Battery Operated

NPA: MidWest Enterprises for the Blind, Inc., Kalamazoo, MI

Contracting Activity: General Services Administration, New York, NY

Coverage: B-List for the Broad Government Requirement as aggregated by the General Services Administration.

Blow-Molded Folding Tables

NSN: 7105-00-NIB-0064—Round Table, Folding Legs, 60” x 29”

NSN: 7105-00-NIB-0065—Bi-fold Table, 60” x 30”

NSN: 7105-00-NIB-0066—Personal Table, 30” x 20”

NSN: 7105-00-NIB-0067—Folding Table with Heavy Duty Legs, 72” x 30”

NSN: 7105-00-NIB-0068—Picnic Table, 72” x 30”

NSN: 7105-00-NIB-0069—Utility Table, 60” x 18”

NSN: 7105-00-NIB-0070—Utility Table, 72” x 18”

NPA: MidWest Enterprises for the Blind, Inc., Kalamazoo, MI

Contracting Activity: General Services Administration, FSS Household and Industrial Furniture, Arlington, VA

Coverage: B-List for the Broad Government Requirement as aggregated by the General Services Administration.

Services

Service Type/Location: Grounds Maintenance Service, U.S. Coast Guard Facility, 9640 Clinton Drive, Houston, TX.

NPA: On Our Own Services, Inc., Houston, TX

Contracting Activity: Dept of Homeland Security, U.S. Coast Guard, Base New Orleans, New Orleans, LA

Service Type/Location: Grounds Maintenance Service, Joint Interagency Task Force South (JIATFS), Truman Annex, Key West, FL.

NPA: Goodwill Industries of South Florida, Inc., Miami, FL

Contracting Activity: Dept of the Army, W453 JIATFS, Key West, FL

Service Type/Location: Management of State Department Mobile Security Deployment (MSD) Kit, Department of State, (Offsite: Virginia Industries for the Blind, 1102 Monticello Rd, Charlottesville, VA), 2216 Gallows Road, Dunn Loring, VA.

NPA: Virginia Industries for the Blind, Charlottesville, VA

Contracting Activity: Department of State, Dunn Loring, VA

Service Type/Locations: IT Services, Defense Manpower Data Center (DMDC), Defense Human Resources Activity, 4800 Mark Center Drive, Alexandria, VA.

NPA: Lakeview Center, Inc., Pensacola, FL

Contracting Activity: Defense Human Resources Activity, Alexandria, VA

Deletion

The following product is proposed for deletion from the Procurement List:

Product

Bakery Mix, Biscuit Type

NSN: 8920-00-NSH-0001—Regular

NPA: Transylvania Vocational Services, Inc., Brevard, NC

Contracting Activities: Dept of Agriculture, Foreign Service Operations International Services Division, Washington, DC. Dept of Agriculture, Kansas City Acquisition Branch, Kansas City, MO

Barry S. Lineback,
Director, Business Operations.

[FR Doc. 2012-30798 Filed 12-20-12; 8:45 am]

BILLING CODE 6353-01-P